DEPARTMENT OF HEALTH AND HUMAN SERVICES

National Institutes of Health

Government-Owned Inventions; Availability for Licensing

AGENCY: National Institutes of Health, Public Health Service, DHHS.

ACTION: Notice.

SUMMARY: The inventions listed below are owned by agencies of the U.S. Government and are available for licensing in the U.S. in accordance with 35 U.S.C. 207 to achieve expeditious commercialization of results of Federally-funded research and development. Foreign patent applications are filed on selected inventions to extend market coverage for companies and may also be available for licensing.

ADDRESSES: Licensing information and copies of the U.S. patent applications listed below may be obtained by writing to the indicated licensing contact at the Office of Technology Transfer, National Institutes of Health, 6011 Executive Boulevard, Suite 325, Rockville, Maryland 20852-3804; telephone: 301/496-7057; fax: 301/402-0220. A signed Confidential Disclosure Agreement will be required to receive copies of the patent applications.

Methods and Apparatus for Performing Multiple Simultaneous Manipulations of Biomolecules in a Two-Dimensional Array

Michael Emmert-Buck, et al. (NCI).

DHHS Reference No. E-339-2002/0

Filed Nov. 25, 2002.

Licensing Contact: Susan Ano; 301/435-5515; anos@od.nih.gov.

This technology concerns a method and apparatus for accomplishing and/or facilitating the analysis of multiple biomolecules separated in a two-dimensional array, such as gel, membrane, tissue biopsy, etc. The invention employs a separator, termed an External Movement Inhibitor Device, that allows biomolecules to be transferred from an array such as those listed above to another support system while maintaining the two-dimensional spatial relationship of the biomolecules as in the array. The biomolecules can subsequently be subjected to various manipulations such as amplification, reverse transcription, labeling, cloning, etc., after which multiple well-established methods for quantitative and qualitative analysis can be used. The technology allows detection/analysis of all molecules regardless of their abundance.

Methods for Assessing the Ability of HIV Patients to Restrict HIV Replication

Mark Connors, Stephen Migueles (NIAID).

DHHS Reference No. E-260-2002/0

Filed Sep. 20, 2002.

Licensing Contact: Susan Ano; 301/435-5515; anos@od.nih.gov.

One of the current obstacles for the design and testing of effective vaccines and immunotherapies of HIV is the lack of in vitro correlates that will predict the ability to restrict virus replication. This invention relates to methods for evaluating the effectiveness of HIV therapies and vaccines and methods for assessing the ability of HIV patients to restrict virus replication. Upon restimulation of CD8+ T cells, the expression of perforin in these cells, and the cell cycle stage of these cells may be measured and used as in vitro markers for monitoring the patient's ability to restrict HIV replication and the effectiveness of the therapies and vaccines applied. Significant proliferation of CD8+ T cells, the presence of perforin in these cells, and the ability of these cells to progress beyond the G1 stage signify the patient's ability to restrict HIV replication and a favorable effect of the therapies or vaccines. These methods may be advantageously applied in conjunction with other measurements of HIV specific immune response such as HLA tetramers.

Safer Attenuated Virus Vaccines with Missing or Diminished Latency of Infection

Jeffrey Cohen (NIAID), Edward Cox (FDA), Lesley Pesnicak (NIAID).

DHHS Reference No. E-250-2002/0

Filed Nov. 5, 2002.

Licensing Contact: Susan Ano; 301/435-5515; anos@od.nih.gov.

This technology describes viruses that have weakened ability to establish and/or maintain latency and their use as live vaccines. The viruses have one or more genetic mutations that allow for continued replication but that inhibit latency. The vaccine materials and methods for their construction are exemplified with the virus that causes chickenpox and whose latent infection results in shingles, a condition that affects up to an estimated 1 million people per year in the United States alone. Specific examples of gene deletion are described. Furthermore, replacement of these deleted genes with other desirable viral antigen encoding sequence(s) and/or cytokine genes in order to enhance a desired immunological response is also described. Aspects of this technology are relevant to other live virus vaccines, thus increasing the safety of such vaccines.

HTLV-1 Cell Binding and Inhibition

Bishop Hague, Tong Mao Zhao, Thomas Kindt (NIAID).

DHHS Reference No. E-240-2002/0

Filed Oct 30, 2002.

Licensing Contact: Susan Ano; 301/435-5515; anos@od.nih.gov.

This technology describes methods for inhibiting human T-cell lymphotropic virus type I (HTLV-I) infection in cells and for reducing viral load or titer in infected individuals. As many as 20 million people worldwide are infected with HTLV-I, and approximately 1 million will develop adult T-cell leukemia/lymphoma, myelopathy, or tropic spastic paraparesis (a condition similar to multiple sclerosis) as a result of infection. Previous treatments have proven ineffective. The current invention relates to the surprising results that adenosine receptor antagonists specific for type A2A and A2B adenosine receptors prevent binding of HTLV-I to cells. Such antiviral use of adenosine receptor antagonists has not been suggested elsewhere. This technology also has veterinary application, as such treatment methods could be used against feline leukemia virus infections.

Flp-in T-Rex Jurkat Cell Line

Steven Zeichner, Naoto Yoshizuka (NCI).

DHHS Reference No. E-161-2003.

Licensing Contact: Michael Shmilovich; 301/435-5019; mish@codon.nih.gov.

This Flp-in T-Rex Jurkat cell line offers rapid and efficient generation of cell lines containing a gene of interest by FRT-Flp recombinase mediated integration.

A cell line can be stably transformed with both the pFRT/lacZeo (already in the parental Flp-in Jurkat cell line) and the pcDNA6/TR plasmids. A gene of interest is cloned into plasmid, pcDNA5/FRT/TO. When pcDNA5/FRT/TO, including the gene of interest, is co-transfected along with a plasmid supplying a source of Flp recombinase into the cell line, the recombinase mediates the insertion of the gene of interest into the Flp recombination target (FRT) site in the pFRT/lacZeo plasmid that becomes integrated into the DNA of the cell line. The gene of interest can then be expressed in a tetracycline inducible fashion.

Method of Assessing Ischemia in a Patient

Steven Warach and Lawrence Latour (NINDS).

DHHS Reference No. E-082-2002 Filed Mar. 17, 2002.

Licensing Contact: Michael Shmilovich; 301/435-5019; mish@codon.nih.gov.

Hyperintense acute reperfusion marker (HARM) is well correlated with reperfusion and is a precursor to or concomitant with reperfusion injury and hemorrhagic transformation. The inventors have developed a novel technique of assessing early blood brain barrier disruption associated with ischemic stroke in a patient by administering a contrast agent to the patient, acquiring a fluid-attenuated inversion-recovery (FLAIR) image, and observing the presence or absence of HARM on the acquired image. The technique can also be used to determine the effectiveness of a therapeutic protocol for the treatment or prevention of reperfusion injury or hemorrhagic transformation in a patient that has suffered an ischemic event.

Dated: May 9, 2003.
Steven M. Ferguson,
Acting Director, Division of Technology Development and Transfer, Office of Technology Transfer, National Institutes of Health.

[FR Doc. 03-12278 Filed 5-15-03; 8:45 am]

BILLING CODE 4140-01-P